DEPARTMENT OF COMMERCE

International Trade Administration

[C-533-807]

Sulfanilic Acid From India: Rescission of Countervailing Duty Administrative Review; 2021

AGENCY: Enforcement and Compliance, International Trade Administration, Department of Commerce.

SUMMARY: The U.S. Department of Commerce (Commerce) is rescinding the administrative review of the countervailing duty (CVD) order on sulfanilic acid from India, covering the period January 1, 2021 through December 31, 2021.

DATES: Applicable August 19, 2022.

FOR FURTHER INFORMATION CONTACT: Brendan Quinn, AD/CVD Operations, Office III, Enforcement and Compliance, International Trade Administration, U.S. Department of Commerce, 1401 Constitution Avenue NW, Washington, DC 20230; telephone: (202) 482-5848.

SUPPLEMENTARY INFORMATION:

Background

On March 3, 2022, Commerce published in the Federal Register a notice of opportunity to request an administrative review of the CVD order on sulfanilic acid from India.¹ On March 30, 2022, the Government of India (GOI) timely requested that Commerce conduct an administrative review of the CVD order on sulfanilic acid from India covering the period of review (POR) January 1, 2021, through December 31, 2021, without naming specific producers or exporters.² We received no other requests for review. On May 13, 2022, Commerce published in the Federal Register a notice of initiation of an administrative review with respect to all producers and exporters of sulfanilic acid from India, in accordance with section 751(a) of the Tariff Act of 1930, as amended (the Act).³ On May 18, 2022, Commerce notified all interested parties that we requested U.S. Customs and Border Protection (CBP) entry data for all producer/exporters of sulfanilic acid from India during the POR, and that the results of the query indicated that there were no reviewable entries from producers/exporters from India during the POR.⁴ In the CBP Entry Memorandum, we also stated that, because there were no reviewable entries, we were notifying interested parties of our intent to rescind the review in full, and we provided all parties an opportunity to comment on the CBP data and our intent to rescind.⁵ No party submitted comments.

¹ See Antidumping or Countervailing Duty Order, Finding, or Suspended Investigation; Opportunity To Request Administrative Review and Join Annual Inquiry Service List, 87 FR 12086 (March 3, 2022).

² See GOI's Letter, “Request for Administrative Review of Countervailing duty imposed on Sulfanilic Acid (C533-807),” dated March 30, 2022.

³ See Initiation of Antidumping and Countervailing Duty Administrative Reviews, 87 FR 29280 (May 13, 2022).

⁴ See Memorandum, “CBP Entry Data Release,” dated May 18, 2022 (CBP Entry Memorandum).

⁵ Id.

Rescission of Review

Pursuant to 19 CFR 351.213(d)(3), it is Commerce's practice to rescind an administrative review of a CVD order where it concludes that there were no reviewable entries of subject merchandise during the POR.⁶ Normally, upon completion of an administrative review, the suspended entries are liquidated at the CVD assessment rate for the review period.⁷ Therefore, for an administrative review to be conducted, there must be a reviewable, suspended entry that Commerce can instruct CBP to liquidate at the calculated CVD assessment rate for the review period.⁸ As noted above, there were no entries of subject merchandise during the POR from producers/exporters from India during the POR. Accordingly, in the absence of reviewable, suspended entries of subject merchandise during the POR, we are rescinding this administrative review, in its entirety, in accordance with 19 CFR 351.213(d)(3).

⁶ See, e.g., Certain Softwood Lumber Products from Canada: Final Results and Final Rescission, in Part, of the Countervailing Duty Administrative Review, 2020, 87 FR 48455 (August 9, 2022).

⁷ See 19 CFR 351.212(b)(2).

⁸ See 19 CFR 351.213(d)(3).

Assessment

Commerce will instruct CBP to assess countervailing duties on all appropriate entries. Because Commerce is rescinding this review in its entirety, the entries to which this administrative review pertained shall be assessed at rates equal to the cash deposit of estimated countervailing duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as a final reminder to parties subject to administrative protective order (APO) of their responsibility concerning the return or destruction of proprietary information disclosed under APO in accordance with 19 CFR 351.305, which continues to govern business proprietary information in this segment of the proceeding. Timely written notification of the return or destruction of the APO materials, or conversion to judicial protective order is hereby requested. Failure to comply with regulations and terms of an APO is a violation, which is subject to sanction.

Notification to Interested Parties

This notice is issued and published in accordance with sections 751(a)(1) and 777(i)(l) of the Act, and 19 CFR 351.213(d)(4).

Dated: August 15, 2022.
James Maeder,
Deputy Assistant Secretary for Antidumping and Countervailing Duty Operations.

[FR Doc. 2022-17856 Filed 8-18-22; 8:45 am]

BILLING CODE 3510-DS-P